DEPARTMENT OF AGRICULTURE

Animal and Plant Health Inspection Service

[Docket No. APHIS-2015-0034]

Notice of Request for Extension of Approval of an Information Collection; Customer/Stakeholder Satisfaction Surveys for the National Animal Health Monitoring System and the National Veterinary Services Laboratories

AGENCY: Animal and Plant Health Inspection Service, USDA.

ACTION: Extension of approval of an information collection; comment request.

SUMMARY: In accordance with the Paperwork Reduction Act of 1995, this notice announces the Animal and Plant Health Inspection Service's intention to request an extension of approval of an information collection to conduct customer/stakeholder satisfaction surveys for the National Animal Health Monitoring System and the National Veterinary Services Laboratories.

DATES: We will consider all comments that we receive on or before July 27, 2015.

ADDRESSES: You may submit comments by either of the following methods:

• Federal eRulemaking Portal: Go to http://www.regulations.gov/#!docketDetail;D=APHIS-2015-0034.

• Postal Mail/Commercial Delivery: Send your comment to Docket No. APHIS-2015-0034, Regulatory Analysis and Development, PPD, APHIS, Station 3A-03.8, 4700 River Road, Unit 118, Riverdale, MD 20737-1238.

Supporting documents and any comments we receive on this docket may be viewed at http://www.regulations.gov/#!docketDetail;D=APHIS-2015-0034 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Customer/Stakeholder Satisfaction Surveys, contact Mr. Chris Quatrano, Industry Analyst, Science, Technology, and Analysis Services, VS, APHIS, 2150 Centre Ave., Bldg. B, Fort Collins, CO 80524; (970) 494-7207. For copies of more detailed information on the information collection, contact Ms. Kimberly Hardy, APHIS' Information Collection Coordinator, at (301) 851-2727.

SUPPLEMENTARY INFORMATION:

Title: Customer/Stakeholder Satisfaction Surveys for the National Animal Health Monitoring System and the National Veterinary Services Laboratories.

OMB Control Number: 0579-0339.

Type of Request: Extension of approval of an information collection.

Abstract: Under the Animal Health Protection Act (7 U.S.C. 8301 et seq.), the Secretary of Agriculture is authorized to protect the health of the livestock, poultry, and aquaculture populations in the United States by preventing the introduction and interstate spread of serious diseases and pests of livestock and for eradicating such diseases from the United States when feasible. This authority has been delegated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS national studies are a collaborative industry and government initiative that helps determine the most effective means of preventing and controlling diseases of livestock, poultry, and aquaculture. APHIS is the only agency responsible for collecting national data on livestock, poultry, and aquaculture health. Participating in any NAHMS study (including these surveys) is voluntary.

The National Veterinary Services Laboratories (NVSL) assists NAHMS by providing testing services for many of the NAHMS projects. Primary functions of NVSL also include providing diagnostic support for domestic diseases, potential foreign animal diseases, import/export programs, disease surveillance, and disease eradication efforts. The efforts of NVSL are an essential part of preventing and controlling diseases of livestock, poultry, and aquaculture.

Information from the NAHMS studies is disseminated to and used by producers, animal health officials, private practitioners, animal industry groups, policy makers, public health officials, media, and educational institutions to improve the health and welfare, quality, and marketability of the livestock, poultry, and aquaculture in the United States.

The purpose of customer/stakeholder satisfaction surveys is:

• To gather information from producers and other information users on the usefulness of studies and reports;

• To minimize producer burden;

• To increase response rates;

• To improve report quality and relevance to producers' and stakeholders' needs; and

• To improve laboratory performance.

Producers and stakeholders participate in the NAHMS program, utilize information from NVSL, and/or read NAHMS reports. Therefore, administration of customer/stakeholder satisfaction surveys will benefit the study process and provide NAHMS and NVSL with information to make the programs more effective with timely and relevant information.

NAHMS staff plan to obtain feedback from recipients of the U.S. Animal Health Report, NAHMS Study Participant Surveys, and NAHMS Descriptive Reports. Feedback from recipients will be used to improve the U.S. Animal Health Report and the NAHMS Descriptive Reports and to evaluate customer/stakeholder satisfaction in an effort to increase participation rates for NAHMS studies. NVSL staff plan to obtain feedback using annual NVSL Performance Surveys. The NVSL surveys will help NVSL monitor performance.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.243 hours per response.

Respondents: Livestock producers and bison, cervid, equid, and dairy farmers; information users; NAHMS Descriptive Report recipients; U.S. Animal Health Report recipients; practicing veterinarians; animal importers/exporters; and State and independent laboratories.

Estimated annual number of respondents: 18,500.

Estimated annual number of responses per respondent: 0.278.

Estimated annual number of responses: 5,150.

Estimated total annual burden on respondents: 1,236 hours. (Due to averaging, the total annual burden hours may not equal the product of the annual number of responses multiplied by the reporting burden per response.)

All responses to this notice will be summarized and included in the request for OMB approval. All comments will also become a matter of public record.

Done in Washington, DC, this 20th day of May 2015.
Kevin Shea,
Administrator, Animal and Plant Health Inspection Service.

[FR Doc. 2015-12760 Filed 5-26-15; 8:45 am]

BILLING CODE 3410-34-P